DEPARTMENT OF COMMERCE

National Oceanic and Atmospheric Administration

RIN 0648-XA380

North Pacific Fishery Management Council; Public Meeting

AGENCY: National Marine Fisheries Service (NMFS), National Oceanic and Atmospheric Administration (NOAA), Commerce.

ACTION: Notice of a public meeting of the (CPT).

SUMMARY: The North Pacific Fishery Management Council's (NPFMC) Crab Plan Team (CPT) will meet in Juneau, AK.

DATES: The meeting will be held May 9, 2011 through May 13, 2011, from 9 a.m.-5 p.m.

ADDRESSES: The meeting will be held at the Ted Stevens Marine Research Institute, 17109 Point Lena Road, Juneau, AK.

Council address: North Pacific Fishery Management Council, 605 W. 4th Avenue, Suite 306, Anchorage, AK 99501-2252.

FOR FURTHER INFORMATION CONTACT: Diana Stram; telephone: (907) 271-2809.

SUPPLEMENTARY INFORMATION: The Plan Team will discuss: Election of officers, catch accounting for groundfish bycatch estimation, criteria for establishing time frames for BMSY estimation. Uncertainty provisions of Annual Catch Limit final rule, Bristol Bay Red King Crab (BBRKC) Essential Fish Habitat discussion paper, Draft assessment reviews of Snow crab, Tanner crab, BBRKC, Pribilof Island Red King Crab, Pribilof Island Blue King Crab, and Saint Matthew Blue King Crab. Final assessments (including Overfishing Fishing Limits and Acceptable Biological Catch recommendations) for Adak Red King Crab, Norton Sound Red King Crab, Aleutian Island Golden King Crab, Tanner crab rebuilding alternatives, NPFMC model workshop, Research Priorities.

The Agenda is subject to change, and the latest version will be posted at http://www.alaskafisheries.noaa.gov/npfmc/.

Special Accommodations

These meetings are physically accessible to people with disabilities. Requests for sign language interpretation or other auxiliary aids should be directed to Gail Bendixen at (907) 271-2809 at least 7 working days prior to the meeting date.

Dated: April 15, 2011.
Tracey L. Thompson,
Acting Director, Office of Sustainable Fisheries, National Marine Fisheries Service.

[FR Doc. 2011-9530 Filed 4-19-11; 8:45 am]

BILLING CODE 3510-22-P